INTERNATIONAL TRADE COMMISSION

[Investigation Nos. 701-TA-621 and 731-TA-1447 (Final)]

Ceramic Tile from China; Determinations

On the basis of the record ¹ developed in the subject investigations, the United States International Trade Commission (“Commission”) determines, pursuant to the Tariff Act of 1930 (“the Act”), that an industry in the United States is materially injured by reason of imports of ceramic tile from China, provided for in heading 6907 of the Harmonized Tariff Schedule of the United States, that have been found by the U.S. Department of Commerce (“Commerce”) to be sold in the United States at less than fair value (“LTFV”), and to be subsidized by the government of China.2 3:

¹ The record is defined in sec. 207.2(f) of the Commission's Rules of Practice and Procedure (19 CFR 207.2(f)).

² The Commission also finds that imports subject to Commerce's affirmative critical circumstances determination are not likely to undermine seriously the remedial effect of the antidumping duty order on Ceramic Tile from China.

³ Chairman David S. Johanson dissenting and Commissioner Randolph J. Stayin not participating.

Background

The Commission instituted these investigations effective April 10, 2019, following receipt of petitions filed with the Commission and Commerce by the Coalition for Fair Trade in Ceramic Tile. The final phase of the investigations was scheduled by the Commission following notification of preliminary determinations by Commerce that imports of ceramic tile from China were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on December 2, 2019 (84 FR 66010). In light of the restrictions on access to the Commission building due to the COVID-19 pandemic, the Commission conducted its hearing (originally scheduled for April 2, 2020) through a series of written questions, submissions of written testimony, written responses to questions, posthearing briefs, and closing arguments/rebuttal remarks via videoconference . All persons who requested the opportunity were permitted to participate.

The Commission made these determinations pursuant to sections 705(b) and 735(b) of the Act (19 U.S.C. 1671d(b) and 19 U.S.C. 1673d(b)). It completed and filed its determinations in these investigations on May 21, 2020. The views of the Commission are contained in USITC Publication 5053 (May 2020), entitled Ceramic Tile from China: Investigation Nos. 701-TA-621 and 731-TA-1447 (Final).

By order of the Commission.
Issued: May 21, 2020.
Lisa Barton,
Secretary to the Commission.

[FR Doc. 2020-11395 Filed 5-27-20; 8:45 am]

BILLING CODE 7020-02-P